DEPARTMENT OF COMMERCE

National Oceanic and Atmospheric Administration

[RTID 0648-XE905]

Magnuson-Stevens Fishery Conservation and Management Act Provisions; Atlantic Coastal Fisheries Cooperative Management Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Greater Atlantic Region, NMFS, has made a preliminary determination that an Exempted Fishing Permit (EFP) application contains all of the required information and warrants further consideration. The EFP would allow federally permitted fishing vessels to fish outside fishery regulations in support of exempted fishing activities proposed by New England Marine Monitoring. Regulations under the Magnuson-Stevens Fishery Conservation and Management Act and the Atlantic Coastal Fisheries Cooperative Management Act require publication of this notification to provide interested parties the opportunity to comment on applications for proposed EFPs.

DATES: Comments must be received on or before May 30, 2025.

ADDRESSES: You may submit written comments by email at nmfs.gar.efp@noaa.gov, subject line “NEMM On-demand EFP.”

All comments received are a part of the public record and may be posted for public viewing without change. All personal identifying information (e.g., name, address), confidential business information, or otherwise sensitive information submitted voluntarily by the sender will be publicly accessible. NMFS will accept anonymous comments (enter “anonymous” as the signature if you wish to remain anonymous).

FOR FURTHER INFORMATION CONTACT: Christine Ford, Fishery Management Specialist, christine.ford@noaa.gov, 978-281-9185.

SUPPLEMENTARY INFORMATION: New England Marine Monitoring (NEMM) submitted a complete application for an EFP to conduct commercial fishing activities that the regulations would otherwise restrict. This EFP would exempt the participating vessels from the following Federal regulations:

Table 1—Requested Exemptions
CFR citation | Regulation | Need for exemption
50 CFR 697.21(b)(2) | Gear marking requirements | For trial of trap/pot gear with no more than one surface marking on trawls of more than three traps.

Table 2—Project Summary
Project title | Piloting Galvanic Timed Release Systems to Reduce Entanglement Risks in the New England Lobster Fishery.
Project start | Upon Issuance.
Project end | 4/30/2026.
Project objectives | To evaluate the operational feasibility and conservation benefits of deploying galvanic timed releases (GTRs) and Smart Buoys as a strategy to reduce vertical line entanglement risk in the lobster fishery.
Project location | Lobster Management Area 1 and all Maine Lobster Conservation Zones (A-G).
Number of vessels | Up to 10.
Number of trips | 330.
Trip duration (days) | 1-2.
Total number of days | Up to 660.
Gear type(s) | Lobster traps.
Number of tows or sets | Up to 2 per trip.
Duration of tows or sets | Up to 5 days.

Project Narrative

This EFP would allow federally permitted vessels to conduct a research initiative aimed at reducing vertical line entanglement risks in the New England lobster trap/pot fishery. The project objectives are to: (1) Reduce vertical line entanglement risks to North Atlantic right whales while maintaining efficient fishing operations; (2) testing and validating galvanic timed release-based pop-up gear as a cost-effective alternative to acoustic release systems; (3) provide training to fishers in the use of pop-up lobster gear and geolocation technology; and (4) assess operational feasibility and performance of alternative retrieval systems under commercial fishing conditions.

Participating vessels would replace one traditional surface marking system with a galvanic timed release (GTR) pop-up system with a Smart Buoy on the sea floor. GTR pop-up systems use metal GTR links calibrated to dissolve over preset intervals, releasing a stowed line after the preset soak time. Participants would use GTRs with dissolution intervals between 12-120 hours, allowing for flexible deployment strategies and trip durations. GTR performance would be evaluated across the release intervals to assess suitability for different deployment strategies. Smart Buoy data would be evaluated to assess buoy surface time, position, and location, as well as remote notice to the operator when a buoy surfaced. Each vessel would modify two trap trawls by replacing one of the traditional vertical lines with a GTR pop-up system and Smart Buoy, resulting in no additional vertical lines in the water. Vessels would be required to use one traditional surface marking on the other end of trap trawls of more than three traps. For trap trawls of fewer than three traps, vessels would still use one traditional surface marking, in addition to the on-demand retrieval system; there would be no fully ropeless trawls. All traditional marking systems would also have a Smart Buoy at the surface to ensure tracking of the gear. Other than gear markings, all trap trawls would be consistent with the regulations of the management area where the vessel is fishing and would be fished in accordance with the participating vessels' standard operations (i.e., number and length of trips, soak times, trap limits, etc.). Additionally, electronic monitoring systems, which include onboard cameras and global positioning system (GPS) tracking, will be installed on each participating vessel to document the setting and retrieval of all GTR-equipped trawls.

NEMM researchers anticipate up to 660 total hauls of hybrid trawls. Trap trawls would be consistent with Atlantic Large Whale Take Reduction Plan regulations. Trawls would not exceed the maximum allowed traps per trawl for the management area they are being fished in, and would be fished for up to 5 days, depending on which preset GTR is used.

NEMM has agreed to the following best management and risk-reduction practices:

• Experimental buoy lines will be marked with unique white and blue markings above the required regional markings;

• All vessels will provide mandatory, weekly gear loss and conflict reports to the Principal Investigator (PI), and the PI will provide monthly gear loss and conflict reports to us;

• After release, the on-demand vertical lines will be retrieved as quickly as possible to minimize time in the water column;

• All vessels will record right whale sightings on data sheets, and will notify NMFS via email (ne.rw.survey@noaa.gov), or NOAA via phone (866-755-6622), or the U.S. Coast Guard (Channel 16);

• All vessels will adhere to a 10-knot (18.5 kilometers per hour) speed limit when transiting dynamic management areas, transiting areas closed to vertical lines, and/or when whales are observed;

• All vessels will adhere to current approach regulations that create a 500-yard (457 meters (m)) buffer zone in the presence of a surfacing right whale and will depart immediately at a safe and slow speed. Hauling any fishing gear will cease once the entire string or trawl is aboard the vessel, to accommodate the regulation, and be redeployed only after it is reasonable to assume the whale left the area; and

• Law enforcement will be able to inspect gear at any time because one traditional surface-marking will be present at all times. The PI will notify law enforcement agencies (NOAA Office of Law Enforcement and Maine Marine Patrol) of project participants and activities in advance of the project start date, including:

○ Materials related to the redeployment of alternative gear-retrieval systems; and

○ Information necessary to continue relevant enforcement operations with participant gear.

If approved, the applicant may request minor modifications and extensions to the EFP throughout the year. EFP modifications and extensions may be granted without further notice if they are deemed essential to facilitate completion of the proposed research and have minimal impacts that do not change the scope or impact of the initially approved EFP request. Any fishing activity conducted outside the scope of the exempted fishing activity would be prohibited.

Authority: 16 U.S.C. 1801 et seq.

Dated: May 12, 2025.
Kelly Denit,
Director, Office of Sustainable Fisheries, National Marine Fisheries Service.

[FR Doc. 2025-08619 Filed 5-14-25; 8:45 am]

BILLING CODE 3510-22-P